ENVIRONMENTAL PROTECTION AGENCY

[FRL —8263-8]

Request for Member Nominees to the Proposed Human Impacts of Climate Change Advisory Committee (HICCAC)

AGENCY: Environmental Protection Agency (EPA).

ACTION: Request for nominations to the proposed Human Impacts and Climate Change Advisory Committee.

SUMMARY: As required by section 9(a)(2) of the Federal Advisory Committee Act, we are giving notice that EPA is accepting nominees for membership on the proposed Human Impacts of Climate Change Advisory Committee (HICCAC). The purpose of this proposed Committee is to provide advice on the conduct of a study titled, “Analyses of the effects of global change on human health and welfare and human systems,” to be conducted as part of the U.S. Climate Change Science Program (CCSP). This assessment is part of a comprehensive set of assessments identified in the CCSP's Strategic Plan. The proposed HICCAC will advise on the specific issues that should be addressed in the assessment, appropriate technical approaches, the nature of information relevant to decision makers, the content of the assessment report, and other scientific and technical matters that may be found to be important to the successful completion of the study. EPA has determined that this proposed federal advisory committee is in the public interest and will assist the Agency in performing its duties under the Clean Water Act, Clean Air Act, and the Global Climate Protection Act. The draft prospectus for the study is on the CCSP Web site at http://www.climatescience.gov/Library/sap/sap4-6/sap4-6prospectus-final.htm.

Proposed committee membership will total approximately eight persons who will serve as Special Government Employees or Regular Government Employees. The membership of the proposed committee will include a balanced representation of interested persons with professional and personal qualifications and experience to contribute to the functions of the proposed committee. In selecting members, EPA will consider individuals from the Federal Government, State and/or local and/or tribal governments, the scientific community, non-governmental organizations and the private sector, with expertise, experience, knowledge and interests essential to, or affected by, the successful completion of the study. Any interested person or organization may submit a nomination. Nominations should be identified by name, occupation, organization, position, address, and telephone number, and must include a complete resume of the nominee's background, experience and expertise, and any other information considered relevant. Additional avenues and resources will be utilized by EPA in the solicitation of nominees. Copies of the Committee Charter will be filed with the appropriate congressional committees and the Library of Congress.

DATES: Nominations should be received by January 18, 2007.

ADDRESSES: Submit nominations to Joanna Foellmer (8601D), National Center for Environmental Assessment, Immediate Office, Office of Research and Development, U.S. Environmental Protection Agency, 1200 Pennsylvania Avenue, NW., Washington, DC 20460; telephone: (202) 564-3208; e-mail address: Foellmer.joanna@epa.gov.

FOR FURTHER INFORMATION CONTACT: Joanna Foellmer (8601D), National Center for Environmental Assessment, Immediate Office, Office of Research and Development, U.S. Environmental Protection Agency, 1200 Pennsylvania Avenue, NW, Washington, DC 20460; telephone: (202) 564-3208; e-mail address: Foellmer.joanna@epa.gov. The Agency will not formally acknowledge or respond to suggestions.

SUPPLEMENTARY INFORMATION: The purpose of the proposed committee is to provide advice on the conduct of a study titled, “Analyses of the effects of global change on human health and welfare and human systems,” to be conducted as part of the U.S. Climate Change Science Program (CCSP). This study will give particular attention to the impacts of climate change on human health, human welfare, and human settlements in the United States. Within the context of the assessment's prospectus, the proposed HICCAC will advise on the specific issues to be addressed, appropriate technical approaches, the nature of information relevant to decision makers, the content of the final assessment report, compliance with the Information Quality Act, and other matters important to the successful achievement of the objectives of the study. Individuals and organizations interested in submitting nominations for membership should familiarize themselves with the draft prospectus for this study, at http://www.climatescience.gov/Library/sap/sap4-6/sap4-6prospectus-final.htm.

The proposed HICCAC is expected to meet twice in 2007: once in a face-to-face meeting in the Washington, DC, area and a second time via conference call. Nominations should be sent preferably by e-mail. If sent by either fax or regular mail, the sender is encouraged to phone (202) 564-3208 in advance.

Dated: December 21, 2006.
George Alapas,
Deputy Director, National Center for Environmental Assessment.

[FR Doc. E6-22306 Filed 12-27-06; 8:45 am]

BILLING CODE 6560-50-P